SMALL BUSINESS ADMINISTRATION

13 CFR Ch. I

Semiannual Regulatory Agenda

AGENCY: U.S. Small Business Administration (SBA).

ACTION: Semiannual regulatory agenda.

SUMMARY: This semiannual Regulatory Agenda is a summary of current and projected regulatory and deregulatory actions and completed actions of the Small Business Administration (SBA). SBA expects that this summary information will enable the public to be more aware of, and effectively participate in, SBA's regulatory and deregulatory activities. SBA invites the public to submit comments on any aspect of this Agenda.

FOR FURTHER INFORMATION CONTACT:

General

Please direct general comments or inquiries to Imelda A. Kish, Law Librarian, U.S. Small Business Administration, 409 Third Street SW, Washington, DC 20416, (202) 205-6849, imelda.kish@sba.gov.

Specific

Please direct specific comments and inquiries on individual regulatory activities identified in this Agenda to the individual listed in the summary of the regulation as the point of contact for that regulation.

SUPPLEMENTARY INFORMATION: SBA is fully committed to implementing the Administration's regulatory reform policies, as established by Executive Order 13771, Reducing Regulation and Controlling Regulatory Costs (January 30, 2017), and Executive Order 13777, Enforcing the Regulatory Reform Agenda (February 24, 2017). In order to fully implement the goal of these executive orders, SBA seeks feedback from the public in identifying any SBA regulations that affected parties believe impose unnecessary burdens or costs that exceed their benefits; eliminate jobs or inhibit job creation; or are ineffective or outdated.

The Regulatory Flexibility Act requires SBA to publish in the Federal Register a semiannual regulatory flexibility agenda describing those rules SBA expects to consider in the next 12 months that are likely to have a significant economic impact on a substantial number of small entities (5 U.S.C. 602). Additional information on these rules and on all other rulemakings SBA expects to consider is included in the Federal Government's complete Regulatory Agenda, which will be available online at www.reginfo.gov in a format that offers users enhanced ability to obtain information about SBA's rules.

Linda E. McMahon,
Administrator.

Small Business Administration—Prerule Stage
Sequence No. | Title | Regulation Identifier No.
191 | Small Business Size Standards; Alternative Size Standard for 7(a), 504, and Disaster Loan Programs | 3245-AG16

Small Business Administration—Proposed Rule Stage
Sequence No. | Title | Regulation Identifier No.
192 | Small Business Development Center Program Revisions | 3245-AE05
193 | Small Business HUBZone Program and Government Contracting Programs | 3245-AG38
194 | Women-Owned Small Business and Economically Disadvantaged Women-Owned Small Business—Certification | 3245-AG75
195 | National Defense Authorization Acts of 2016 and 2017, RISE After Disaster Act of 2015, and Other Small Business Government Contracting Amendments | 3245-AG86
196 | Small Business Size Standards: Educational Services; Health Care and Social Assistance; Arts, Entertainment and Recreation; Accommodation and Food Services; Other Services | 3245-AG88
197 | Small Business Size Standards: Agriculture, Forestry, Fishing and Hunting; Mining, Quarrying, and Oil and Gas Extraction; Utilities; Construction | 3245-AG89
198 | Small Business Size Standards: Transportation and Warehousing; Information; Finance and Insurance; Real Estate and Rental and Leasing | 3245-AG90
199 | Small Business Size Standards: Professional, Scientific and Technical Services; Management of Companies and Enterprises; Administrative and Support, Waste Management and Remediation Services | 3245-AG91
200 | Streamlining and Modernizing Certified Development Company Program (504 Loan Program) Corporate Governance Requirements | 3245-AG97
201 | Streamlining and Modernizing the 7(a), Microloan, and 504 Loan Programs to Reduce Unnecessary Regulatory Burden | 3245-AG98

Small Business Administration—Final Rule Stage
Sequence No. | Title | Regulation Identifier No.
202 | Small Business Timber Set-Aside Program | 3245-AG69
203 | Ownership and Control of Service-Disabled Veteran-Owned Small Business Concerns | 3245-AG85

Small Business Administration—Completed Actions
Sequence No. | Title | Regulation Identifier No.
204 | Miscellaneous Amendments to Business Loan Programs and Surety Bond Guarantee Program | 3245-AF85
205 | Disaster Loan Programs; Federal Flood Risk Management Standard | 3245-AG77

SMALL BUSINESS ADMINISTRATION (SBA)

Prerule Stage

191. Small Business Size Standards; Alternative Size Standard for 7(A), 504, and Disaster Loan Programs

E.O. 13771 Designation: Other.

Legal Authority: Pub. L. 111-240, sec. 1116

Abstract: SBA will request public comment on options to amend its size eligibility criteria for Business Loans, certified development company (CDC) loans under title V of the Small Business Investment Act (504) and economic injury disaster loans (EIDL). For the SBA 7(a) Business Loan Program and the 504 program, the eventual amendments will provide an alternative size standard for loan applicants that do not meet the small business size standards for their industries. The Small Business Jobs Act of 2010 (Jobs Act) established alternative size standards that apply to both of these programs until SBA's Administrator establishes other alternative size standards. For the disaster loan program, the amendments will provide an alternative size standard for loan applicants that do not meet the Small Business Size Standard for their industries. SBA loan program alternative size standards do not affect other Federal Government programs, including Federal procurement.

Timetable:

Action | Date | FR Cite
ANPRM | 03/22/18 | 83 FR 12506
ANPRM Comment Period End | 05/21/18 |
NPRM | 12/00/18 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG16

SMALL BUSINESS ADMINISTRATION (SBA)

Proposed Rule Stage

192. Small Business Development Center Program Revisions

E.O. 13771 Designation: Other.

Legal Authority: 15 U.S.C. 634(b)(6); 15 U.S.C. 648

Abstract: Updates the Small Business Development Center (SBDC) program regulations by proposing to amend: (1) Procedures for approving applications for new Host SBDCs; (2) approval procedures for travel outside the continental U.S. and U.S. territories; (3) procedures and requirements regarding findings and disputes resulting from financial exams, programmatic reviews, accreditation reviews, and other SBA oversight activities; (4) requirements for new or renewal applications for SBDC grants, including electronic submission through the approved electronic Government submission facility; (5) procedures regarding the determination to affect suspension, termination or non-renewal of an SBDC's cooperative agreement; and (6) provisions regarding the collection and use of the individual SBDC client data.

Timetable:

Action | Date | FR Cite
ANPRM | 04/02/15 | 80 FR 17708
ANPRM Comment Period End | 06/01/15
NPRM | 07/00/18

Regulatory Flexibility Analysis Required: Yes.

Agency Contact: Adriana Menchaca-Gendron, Associate Administrator for Small Business Development Centers, Small Business Administration, 409 Third Street SW, Washington, DC 20416, Phone: 202 205-6988, Email: adriana.menchaca-gendron@sba.gov.

RIN: 3245-AE05

193. Small Business Hubzone Program and Government Contracting Programs

E.O. 13771 Designation: Other.

Legal Authority: 15 U.S.C. 657a

Abstract: SBA has been reviewing its processes and procedures for implementing the HUBZone program and has determined that several of the regulations governing the program should be amended in order to resolve certain issues that have arisen. As a result, the proposed rule would constitute a comprehensive revision of part 126 of SBA's regulations to clarify current HUBZone Program regulations, and implement various new procedures. The amendments will make it easier for participants to comply with the program requirements and enable them to maximize the benefits afforded by participation. In developing this proposed rule, SBA will focus on the principles of Executive Orders 12866, 13771 and 13563 to determine whether portions of regulations should be modified, streamlined, expanded or repealed to make the HUBZone program more effective and/or less burdensome on small business concerns. At the same time, SBA will maintain a framework that helps identify and reduce waste, fraud, and abuse in the program.

Timetable:

Action | Date | FR Cite
NPRM | 05/00/18 |

Regulatory Flexibility Analysis Required: Yes.

Agency Contact: Mariana Pardo, Director, Office of HUBZone, Small Business Administration, 409 Third Street SW, Washington, DC 20416, Phone: 202 205-2985, Fax: 202 481-2675, Email: mariana.pardo@sba.gov.

RIN: 3245-AG38

194. Women-Owned Small Business and Economically Disadvantaged Women-Owned Small Business-Certification

E.O. 13771 Designation: Other.

Legal Authority: Pub. L. 113-291, sec. 825; 15 U.S.C. 637(m)

Abstract: Section 825 of the National Defense Authorization Act for Fiscal Year 2015 (NDAA), Public Law 113-291, 128 Stat. 3292, Dec. 19, 2014, included language requiring that women-owned small business concerns and economically disadvantaged women-owned small business concerns are certified by a Federal agency, a State government, the Administrator, or national certifying entity approved by the Administrator as a small business concern owned and controlled by women. This rule will propose the standards and procedures for participation in this certification program. This rule will also propose to revise the procedures for continuing eligibility, program examinations, protest and appeals. The proposed revisions will reflect public comments that SBA received in response to the Advanced Notice of Proposed Rulemaking that the agency issued in December 2016 to solicit feedback on implementation of the program. Finally, SBA is planning to continue to utilize new technology to improve its efficiency and decrease small business burdens, and therefore, the new certification procedures will be based on an electronic application and certification process.

Timetable:

Action | Date | FR Cite
ANPRM | 12/18/15 | 80 FR 78984
ANPRM Comment Period End | 02/16/16 |
NPRM | 05/00/18 |

Regulatory Flexibility Analysis Required: Yes.

Agency Contact: Kenneth Dodds, Director, Office of Policy, Planning and Liaison, Small Business Administration, 409 Third Street SW, Washington, DC 20416, Phone: 202 619-1766, Fax: 202 481-2950, Email: kenneth.dodds@sba.gov.

RIN: 3245-AG75

195. National Defense Authorization Acts of 2016 and 2017, Rise After Disaster Act of 2015, and Other Small Business Government Contracting Amendments

E.O. 13771 Designation: Other.

Legal Authority: 15 U.S.C. 637(d)(17); Pub. L. 114-328, sec. 1811, sec. 1821; Pub. L. 114-92, sec. 863; Pub. L. 114-88, sec. 2108

Abstract: Section 1811 of the of the National Defense Authorization Act (NDAA) for Fiscal Year 2017, Public Law 114-328, Dec. 23, 2016, (NDAA) of 2017 limits the scope of review of Procurement Center Representatives for certain Department of Defense procurements performed outside of the United States. Section 1821 of the NDAA of 2017 establishes that failure to act in good faith in providing timely subcontracting reports shall be considered a material breach of the contract. Section 863 of the NDAA for FY 2016, Public Law 114-92, Nov. 25, 2015, establishes procedures for the publication of acquisition strategies if the acquisition involves consolidation or substantial bundling. SBA also intends to request comment on various proposed changes requested by industry or other agencies, including those pertaining to exclusions from calculating compliance with the limitations on subcontracting, an agency's ability to set aside orders under set-aside contracts, and a contracting officer's authority to request reports on a prime contractor's compliance with the limitations on subcontracting. Section 2108 of Public Law 114-88 provide agencies with double credit when they award to a local small business in a disaster area.

Timetable:

Action | Date | FR Cite
NPRM | 05/00/18 |

Regulatory Flexibility Analysis Required: Yes.

Agency Contact: Kenneth Dodds, Director, Office of Policy, Planning and Liaison, Small Business Administration, 409 Third Street SW, Washington, DC 20416, Phone: 202 619-1766, Fax: 202 481-2950, Email: kenneth.dodds@sba.gov.

RIN: 3245-AG86

196. Small Business Size Standards: Educational Services; Health Care and Social Assistance; Arts, Entertainment and Recreation; Accommodation and Food Services; Other Services

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate size standards for all industries in North American Industry Classification System (NAICS) Sector 61 (Educational Services), Sector 62 (Health Care and Social Assistance), Sector 71 (Arts, Entertainment and Recreation), Sector 72 (Accommodation and Food Services), and Sector 81 (Other Services) and make necessary adjustments to size standards in these sectors. This is one of a series of proposed rules that will examine groups of NAICS sectors. SBA will apply its Size Standards Methodology to this proposed rule.

Timetable:

Action | Date | FR Cite
NPRM | 09/00/18 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG88

197. Small Business Size Standards: Agriculture, Forestry, Fishing and Hunting; Mining, Quarrying, and Oil and Gas Extraction; Utilities; Construction

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 11 (Agriculture, Forestry, Fishing and Hunting), Sector 21 (Mining, Quarrying, and Oil and Gas Extraction), Sector 22 (Utilities), and Sector 23 (Construction), and make necessary adjustments to size standards in these sectors. This is one of a series of proposed rules that will examine groups of NAICS sectors. SBA will apply its Size Standards Methodology to this proposed rule.

Timetable:

Action | Date | FR Cite
NPRM | 09/00/18 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG89

198. Small Business Size Standards: Transportation and Warehousing; Information; Finance and Insurance; Real Estate and Rental and Leasing

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 48-49 (Transportation and Warehousing), Sector 51 (Information), Sector 52 (Finance and Insurance), and Sector 53 (Real Estate and Rental and Leasing) and make necessary adjustments to size standards in these sectors. This is one of a series of proposed rules that will examine groups of NAICS sectors. SBA will apply its Size Standards Methodology to this proposed rule.

Timetable:

Action | Date | FR Cite
NPRM | 09/00/18 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG90

199. Small Business Size Standards: Professional, Scientific and Technical Services; Management of Companies and Enterprises; Administrative and Support, Waste Management and Remediation Services

E.O. 13771 Designation: Other.

Legal Authority: 15 U.S.C. 632(a)

Abstract: The Small Business Jobs Act of 2010 (Jobs Act) requires SBA to conduct every five years a detailed review of all size standards and to make appropriate adjustments to reflect market conditions. As part of the second five-year review of size standards under the Jobs Act, in this proposed rule, SBA will evaluate each industry that has a receipts-based standard in North American Industry Classification System (NAICS) Sector 54 (Professional, Scientific and Technical Services), Sector 55 (Management of Companies and Enterprises), and Sector 56 (Administrative and Support, Waste Management and Remediation Services) and make necessary adjustments to size standards in these sectors. This is one of a series of proposed rules that will examine groups of NAICS sectors. SBA will apply its Size Standards Methodology to this proposed rule.

Timetable:

Action | Date | FR Cite
NPRM | 09/00/18 |

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG91

200. • Streamlining and Modernizing Certified Development Company Program (504 Loan Program) Corporate Governance Requirements

E.O. 13771 Designation: Other.

Legal Authority: 15 U.S.C. 695 et seq.

Abstract: On August 15, 2017, the U.S. Small Business Administration (SBA) published a request for information seeking input from the public on SBA regulations that should be repealed, replaced, or modified because they are obsolete, unnecessary, ineffective, or burdensome (82 FR 38617). As a part of that initiative, SBA intends to conduct a review of its existing regulations to identify ways to improve and streamline the corporate governance requirements in the 504 loan program. SBA intends to issue a proposed rule reflecting these changes in Fiscal Year 2018.

Timetable:

Action | Date | FR Cite
NPRM | 06/00/18 |

Regulatory Flexibility Analysis Required: Yes.

Agency Contact: Linda Reilly, Chief, 504 Loan Program, Small Business Administration, 409 Third Street SW, Washington, DC 20416, Phone: 202 205-9949, Email: linda.reilly@sba.gov.

RIN: 3245-AG97

201. • Streamlining and Modernizing The 7(A), Microloan, and 504 Loan Programs To Reduce Unnecessary Regulatory Burden

E.O. 13771 Designation: Other.

Legal Authority: 15 U.S.C. 636(a); 15 U.S.C. 636(m); 15 U.S.C. 695 et seq.

Abstract: On August 15, 2017, the U.S. Small Business Administration (SBA) published a request for information seeking input from the public on SBA regulations that should be repealed, replaced, or modified because they are obsolete, unnecessary, ineffective, or burdensome (82 FR 38617). SBA reviewed all comments received regarding the 7(a), Microloan, and 504 loan programs and is conducting a review of its existing regulations to identify ways to improve and streamline regulations and lower costs. SBA intends to issue a proposed rule reflecting these changes in Fiscal Year 2018.

Timetable:

Action | Date | FR Cite
NPRM | 06/00/18 |

Regulatory Flexibility Analysis Required: Yes.

Agency Contact: Linda Reilly, Chief, 504 Loan Program, Small Business Administration, 409 Third Street SW, Washington, DC 20416, Phone: 202 205-9949, Email: linda.reilly@sba.gov.

RIN: 3245-AG98

SMALL BUSINESS ADMINISTRATION (SBA)

Final Rule Stage

202. Small Business Timber Set-Aside Program

E.O. 13771 Designation: Regulatory.

Legal Authority: 15 U.S.C. 631; 15 U.S.C. 644(a)

Abstract: The U.S. Small Business Administration (SBA or Agency) is amending its Small Business Timber Set-Aside Program (the Program) regulations. The Small Business Timber Set-Aside Program is rooted in the Small Business Act, which tasked SBA with ensuring that small businesses receive a fair proportion of the total sales of government property. Accordingly, the Program requires Timber sales to be set aside for small business when small business participation falls below a certain amount. SBA considered comments received during the Advance Notice of Proposed Rulemaking and Notice of Proposed Rulemaking processes, including on issues such as, but not limited to, whether the saw timber volume purchased through stewardship timber contracts should be included in calculations, and whether the appraisal point used in set-aside sales should be the nearest small business mill. In addition, SBA is considering data from the timber industry to help evaluate the current program and economic impact of potential changes.

Timetable:

Action | Date | FR Cite
ANPRM | 03/25/15 | 80 FR 15697
ANPRM Comment Period End | 05/26/15 |
NPRM | 09/27/16 | 81 FR 66199
NPRM Comment Period End | 11/28/16 |
Final Rule | 08/00/18 |

Regulatory Flexibility Analysis Required: Yes.

Agency Contact: David W. Loines, Area Director, Office of Government Contracting, Small Business Administration, 409 Third Street SW, Washington, DC 20416, Phone: 202 205-7311, Email: david.loines@sba.gov.

RIN: 3245-AG69

203. Ownership and Control of Service-Disabled Veteran-Owned Small Business Concerns

E.O. 13771 Designation: Other.

Legal Authority: Pub. L. 114-328, sec. 1832, sec. 1835

Abstract: Section 1832 of the National Defense Authorization Act for Fiscal Year 2017 (NDAA), Public Law 114-328, Dec. 23, 2016, provides for a government-wide, uniform definition of a small business concern owned and controlled by a service-disabled veteran. Section 1835 requires the Small Business Administration (SBA) and the Department of Veterans Affairs (VA) to issue guidance, not later than 180 days after the date of enactment of the NDAA of 2017. The rule will amend SBA's regulations to create a uniform definition of a small business owned and controlled by a service-disabled veteran to be used for purposes of eligibility for government procurements by agencies other than the VA under the authority of 15 U.S.C. 657f, and by the VA for VA procurements in accordance with 38 U.S.C. 8127. These changes will include addressing ownership by an employee stock ownership plan (ESOP) and ownership and control by a surviving spouse.

Timetable:

Action | Date | FR Cite
NPRM | 01/29/18 | 83 FR 4005
Comment Period End | 03/30/18 |
Final Rule | 07/00/18 |

Regulatory Flexibility Analysis Required: Yes.

Agency Contact: Kenneth Dodds, Director, Office of Policy, Planning and Liaison, Small Business Administration, 409 Third Street SW, Washington, DC 20416, Phone: 202 619-1766, Fax: 202 481-2950, Email: kenneth.dodds@sba.gov.

RIN: 3245-AG85

SMALL BUSINESS ADMINISTRATION (SBA)

Completed Actions

204. Miscellaneous Amendments to Business Loan Programs and Surety Bond Guarantee Program

E.O. 13771 Designation: Deregulatory.

Legal Authority: 15 U.S.C. 636(a); 15 U.S.C. 694(b)

Abstract: Certain lenders have been delegated the authority to make loan decisions without prior approval from SBA under certain circumstances. SBA has formalized such delegated authorities in this rule. The rule makes several minor modifications to the 504 Loan Program and governance rules for Certified Development Company (CDC) in a follow-on to the Final Rule: 504 and 7(a) Loan Program Updates (March 21, 2014). The rule also aligns terminology for 7(a) lenders that are federally regulated to synchronize with existing industry requirements. SBA is also making several other miscellaneous amendments to improve oversight and operations of its finance programs.

This rule makes four changes to the Surety Bond Guarantee (SBG) Program. The first changes the threshold for notification to SBA of changes in the contract or bond amount. Second, the change requires sureties to submit quarterly contract completion reports. Third, SBA is increasing the eligible contract limit for the Quick Bond Application and Agreement from $250,000 to $400,000. Finally, the rule increases the guarantee percentage in the Preferred Surety Bond program to reflect the statutory change made by the National Defense Authorization Act of 2016. The guarantee percentage increases from 70 percent to 80 percent or 90 percent, depending on contract size and socioeconomic factors currently in effect in the Prior Approval Program.

Completed:

Reason | Date | FR Cite
Final Rule | 08/21/17 | 82 FR 39491
Final Rule Effective | 09/20/17

Regulatory Flexibility Analysis Required: Yes.

Agency Contact: Dianna L. Seaborn, Phone: 202 205-3645, Email: dianna.seaborn@sba.gov.

RIN: 3245-AF85

205. Disaster Loan Programs; Federal Flood Risk Management Standard

E.O. 13771 Designation: Not subject to, not significant.

Legal Authority: 15 U.S.C. 634(b)(6); E.O. 11988

Abstract: Due to the revocation of Executive Order 11988, SBA is withdrawing this rule which would have described which disaster loans were to be subject to federal flood risk managements standards. It would have applied to disaster loans that met one of the following conditions: (1) SBA funds used for total real estate reconstruction at the damaged site that is located in the Special Flood Hazard Area (SFHA); (2) SBA funds used for new real estate construction at a relocation site that is located in the SFHA; or (3) SBA funds used for code required elevation at the damaged site that is located in the SFHA.

Completed:

Reason | Date | FR Cite
Withdrawn | 03/26/18 |

Regulatory Flexibility Analysis Required: Yes.

Agency Contact: Alejandro Contreras, Phone: 202 205-6674, Email: alejandro.contreras@sba.gov.

RIN: 3245-AG77

[FR Doc. 2018-11293 Filed 6-8-18; 8:45 am]

BILLING CODE 8025-01-P